DEPARTMENT OF TRANSPORTATION

Coast Guard

33 CFR Part 165

[COTP Honolulu 02-002]

RIN 2115-AA97

Security Zone; Chevron Conventional Buoy Mooring, Barbers Point Coast, Honolulu, HI

AGENCY: Coast Guard, DOT.

ACTION: Temporary final rule.

SUMMARY: The Coast Guard is establishing a security zone in the waters adjacent to the Chevron Conventional Buoy Mooring (CBM) Barbers Point Coast, Honolulu, HI. This security zone is necessary to protect the CBM, and all involved personnel and vessels from acts of sabotage or other subversive acts, accidents, or other causes of a similar nature at the CBM off the Barbers Point Coast on the island of Oahu. Entry into this zone is prohibited unless authorized by the U.S. Coast Guard Captain of the Port Honolulu, HI.

EFFECTIVE DATES: This rule is effective from 4 p.m. HST March 19, 2002, to 6 a.m. HST April 19, 2002.

ADDRESSES: Public comment and supporting material is available for inspection or copying at U.S. Coast Guard Marine Safety Office Honolulu, 433 Ala Moana Blvd, Honolulu, Hawaii 96813, between 7 a.m. and 4:30 p.m., Monday through Friday, except Federal holidays.

FOR FURTHER INFORMATION CONTACT: LCDR M. A. Willis, U.S. Coast Guard Marine Safety Office Honolulu, Hawaii at (808) 522-8264.

SUPPLEMENTARY INFORMATION:

Regulatory Information

In order to protect the interests of national security, the Coast Guard is establishing a temporary security zone to provide for the safety and security of the public, maritime commerce in and facilities in the navigable waters of the United States. In accordance with 5 U.S.C. 553, a Notice of Proposed Rulemaking (NPRM) was not published for this regulation and good cause exists for making it effective in less than 30 days after Federal Register publication. Publishing an NPRM and delaying this action's effective date would be contrary to the public interest since immediate action is needed to protect the Chevron Conventional Buoy Mooring (CBM) Barbers Point, Honolulu, HI, any vessel moored there, and all involved personnel. There is insufficient time to publish a proposed rule or to provide a delayed effective date for this rule. Under these circumstances, following normal rulemaking procedures would be impracticable.

Background and Purpose

The Coast Guard is establishing a security zone in the waters adjacent to the CBM Mooring Barbers Point Coast, Honolulu, HI. The security zone would extend out 1,000 yards in all directions from each vessel moored at the CBM in approximate position: 21°16.7′ N, 158°04.2′ W. This security zone extends from the surface of the water to the ocean floor. This security zone is necessary to protect the CBM, tank vessels, and all involved personnel from acts of sabotage or other subversive acts, accidents, or other causes of a similar nature during cargo operations at the CBM off the Barbers Point Coast on the island of Oahu. Representatives of the Captain of the Port Honolulu will enforce this security zone. The Captain of the Port may be assisted by other federal or state agencies. Periodically, the Coast Guard Captain of the Port will authorize general permission to enter into this security zone and will announce this by Broadcast Notice to Mariners.

Regulatory Evaluation

This temporary final rule is not a “significant regulatory action” under section 3(f) of Executive Order 12866, Regulatory Planning and Review, and does not require an assessment of potential costs and benefits under section 6(a)(3) of that order. The Office of Management and Budget has not reviewed it under that order. It is not “significant” under the regulatory policies and procedures of the Department of Transportation (DOT) (44 FR 11040, February 26, 1979). The U.S. Coast Guard expects the economic impact of this action to be so minimal that a full Regulatory Evaluation under paragraph 10(e) of the regulatory policies and procedures of DOT is unnecessary. This expectation is based on the short duration of the zone and the limited geographic area affected by it.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this regulation will not have a significant economic impact on a substantial number of small entities. No small business impacts are anticipated due to the small size of the zone and the short duration of the security zone in any one area.

Assistance for Small Entities

Because we did not anticipate any small business impacts, we did not offer assistance to small entities in understanding the rule.

Collection of Information

This rule calls for no new collection of information under the Paperwork Reduction Act of 1995 (44 U.S.C. 3501-3520 et seq.).

Federalism

The Coast Guard has analyzed this rule under Executive Order 13132, and has determined this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government having first provided the funds to pay those unfunded mandate costs. This rule will not impose an unfunded mandate.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

The Coast Guard considered the environmental impact of this action and concluded that, under figure 2-1, paragraph (34)(g) of Commandant Instruction M16475.1C, this rule is categorically excluded from further environmental documentation. As an emergency action, the environmental analysis, requisite regulatory consultations, and categorical exclusion determination, will be prepared and submitted after establishment of this temporary security zone, and will be available for inspection or copying where indicated under addresses.

List of Subjects in 33 CFR Part 165

Harbors, Marine safety, Navigation (water), Reports and recordkeeping requirements, Security measures, Waterways.

Regulation

For the reasons set out in the preamble, the Coast Guard amends 33 CFR part 165 as follows:

PART 165—REGULATED NAVIGATION AREAS AND LIMITED ACCESS AREAS

1. The authority citation for part 165 continues to read as follows:

Authority: 33 U.S.C. 1231; 50 U.S.C. 191, 33 CFR 1.05-1(g), 6.04-1, 6.04-6, and 160.5; 49 CFR 1.46.

2. A new temporary § 165.T14-071 is added to read as follows:

§ 165.T14-071 Security Zone: Chevron Conventional Buoy Mooring, Barbers Point Coast, Honolulu, HI.

(a) Location. The following area is a security zone: All waters extending 1,000 yards in all directions from vessels moored at the CBM in approximate position: 21°16.7′ N, 158°04.2′ W. This security zone extends from the surface of the water to the ocean floor.

(b) Designated representative. A designated representative of the Captain of the Port is any Coast Guard commissioned officer, warrant or petty officer that has been authorized by the Captain of the Port Honolulu to act on his behalf. The following officers have or will be designated by the Captain of the Port Honolulu: The senior Coast Guard boarding officer on each vessel enforcing the security zone.

(c) Regulations.

(1) In accordance with § 165.33, entry into this zone is prohibited unless authorized by the Coast Guard Captain of the Port Honolulu or his designated representatives.

(2) The Coast Guard Captain of the Port Honolulu will periodically authorize general permission to enter into this temporary security zone and will announce this by Broadcast Notice to Mariners.

(d) Effective dates. This section is effective from 4 p.m. HST March 19, 2002 until 6 a.m. HST April 19, 2002.

Dated: March 8, 2002.
G.J. Kanazawa,
Captain, U.S. Coast Guard, Captain of the Port Honolulu.

[FR Doc. 02-7827 Filed 4-1-02; 8:45 am]

BILLING CODE 4910-15-P